DEPARTMENT OF THE TREASURY

Submission for OMB Review; Comment Request

December 14, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before January 22, 2001 to be assured of consideration.

Internal Revenue Service (IRS)

OMB Number: 1545-1299.

Regulation Project Number: IA-54-90 Final.

Type of Review: Extension.

Title: Settlement Funds.

Description: The reporting requirements affect taxpayers that are qualified settlement funds; they will be required to file income tax returns, estimated income tax returns, and withholding tax returns. The information will facilitate taxpayer examinations.

Respondents: Business or other for-profit, Individuals or households, Not-for-profit institutions, Farms, Federal Government, State, Local or Tribal Government.

Estimated Number of Respondents: 1,500.

Estimated Burden Hours Per Respondent: 2 hours, 22 minutes.

Frequency of Response: Annually.

Estimated Total Reporting Burden: 3,542 hours.

OMB Number: 1545-1451.

Revenue Project Number: REG-248900-96 Final.

Type of Review: Extension.

Title: Definition of Private Activity Bonds.

Description: Section 103 provides generally that interest on certain State or local bonds is excluded from gross income. However, under sections 103(b)(1) and 141, interest on private activity bonds (other than qualified bonds) is not excluded. The regulations provide rules, for purposes of section 141, to determine how bond proceeds are measured and used and how debt service for those bonds is paid or secured.

Respondents: State, Local or Tribal Government.

Estimated Number of Respondents: 10,100.

Estimated Burden Hours Per Respondent: 2 hours, 59 minutes.

Frequency of Response: On occasion.

Estimated Total Reporting Burden: 30,100 hours.

OMB Number: 1545-1559.

Revenue Procedure Number: Revenue Procedures 98-46 and 97-44.

Type of Review: Extension.

Title: LIFO Conformity Requirement.

Description: Revenue Procedure 97-44 permits automobile dealers that comply with the terms of the revenue procedure to continue using the LIFO inventory method despite previous violations of the LIFO inventory method despite previous violations of the LIFO conformity requirements of section 472(c) or (e)(2). Revenue Procedure 98-46 modifies Revenue Procedure 97-44 by allowing medium- and heavy-duty truck dealers to take advantage of the favorable relief provided in Revenue Procedure 97-44.

Respondents: Business or other for-profit.

Estimated Number of Respondents: 5,000.

Estimated Burden Hours Per Respondent: 20 hours.

Frequency of Response: Annually.

Estimated Total Reporting Burden: 100,000 hours.

OMB Number: 1545-1562.

Revenue Procedure Number: Revenue Procedure 97-48.

Type of Review: Extension.

Title: Automatic Relief for Late S Corporation Elections.

Description: The Small Business Job Protection Act of 1996 provides the IRS with the authority to grant relief for late S corporation elections. This revenue procedure provides that, in certain situations, taxpayers whose S corporation election was filed late can obtain by filing Form 2553 and attaching a statement explaining that the requirements of the revenue procedure have been met.

Respondents: Business or other for-profit.

Estimated Number of Respondents: 100.

Estimated Burden Hours Per Respondent: 1 hour.

Frequency of Response: Other (once).

Estimated Total Reporting Burden: 100 hours.

OMB Number: 1545-1582.

Regulation Project Number: REG-209373-81 Final.

Type of Review: Extension.

Title: Election to Amortize Start-Up Expenditures for Active Trade or Business.

Description: The information is needed to comply with section 195 of the Internal Revenue Code, which requires taxpayers to make an election in order to amortize start-up expenditures. The information will be used for compliance and audit purposes.

Respondents: Business or other for-profit.

Estimated Number of Respondents: 150,000.

Estimated Burden Hours Per Respondent: 15 minutes.

Frequency of Response: Other (one-time election).

Estimated Total Reporting Burden: 37,500 hours.

OMB Number: 1545-1704.

Revenue Procedure Number: Revenue Procedure 2000-41.

Type of Review: Extension.

Title: Change in Minimum Funding Method.

Description: This revenue procedure provides a mechanism whereby a plan sponsor or plan administrator may obtain a determination from the Internal Revenue Service that its proposed change in the method of funding its pension plan(s) meets the standards of section 412 of the Internal Revenue Code.

Respondents: Business or other for-profit, Not-for-profit institutions, State, Local or Tribal Government.

Estimated Number of Respondents: 300.

Estimated Burden Hours Per Respondent: 18 hours.

Frequency of Response: On occasion.

Estimated Total Reporting Burden: 5,400 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 00-32492 Filed 12-20-00; 8:45 am]

BILLING CODE 4830-01-U